DEPARTMENT OF TRANSPORTATION

Federal Aviation Administration

14 CFR Part 73

[Docket No. FAA-2013-0931; Airspace Docket No. 13-AWP-6]

RIN 2120-AA66

Amendment of Restricted Area R-7201 Farallon De Medinilla Island; Mariana Islands, GU

AGENCY: Federal Aviation Administration (FAA), DOT.

ACTION: Final rule; technical amendment.

SUMMARY: This action makes a minor correction to the longitude coordinate in the boundary of restricted area R-7201, Farallon De Medinilla Island, Mariana Islands, Guam. This change is due to the National Oceanic and Atmospheric Administration's (NOAA) adoption of a revised datum which resulted in a minor shift in the charted location of Farallon De Medinilla Island. This action adjusts the longitude coordinate of the restricted area to ensure that it is charted in the proper position over the Island.

DATES: Effective date: December 27, 2013.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Background

Based on a NOAA survey in 2010, it was determined that Farallon De Medinilla Island (FDM) was not plotted properly on the NOAA charts. As a result, the datum for charting the FDM inset on NOAA Chart 81086 was corrected based on the survey findings. This requires a minor adjustment in the longitude coordinate for R-7201 to take into account the revised positioning of FDM on NOAA Chart 81086 and to ensure that the restricted area is centered over FDM on the current NOAA chart.

The Rule

This action amends Title 14 Code of Federal Regulations (14 CFR) part 73 by making a minor correction to the longitude coordinate in the description of restricted area R-7201, Farallon De Medinilla Island, Mariana Islands, Guam. This action changes the longitude coordinate from “long. 146°04′39″ E.” to “long. 146°03′31″ E.”

This change does not affect the designated altitudes or activities conducted within the restricted area. Because this is a minor change that merely provides a more accurate plotting of the FDM Island and the overlying restricted airspace to match the amended NOAA chart datum, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as amends the description of restricted area R-7201, Farallon De Medinilla Island, Mariana Islands.

Environmental Review

The FAA has determined that this action qualifies for categorical exclusion under the National Environmental Policy Act in accordance with FAA Order 1050.1E, Environmental Impacts: Policies and Procedures, paragraph 311d. This action is an administrative change to the description of affected restricted area R-7201 to reflect a more accurate geographic coordinate. It does not alter the dimensions, altitudes, time of designation or use of the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.72 [Amended]

2. Section 73.72 is amended as follows:

* * * * *

R-7201 Farallon De Medinilla Island, Mariana Islands, GU [Amended]

By removing the sentence under Boundaries and adding in their place:

Boundaries. The area within a 3-nautical mile radius of lat. 16°01′04″ N., long. 146°03′31″ E.

Issued in Washington, DC, on November 19, 2013.
Gary A. Norek,
Manager, Airspace Policy and ATC Procedures Group.

[FR Doc. 2013-28481 Filed 11-26-13; 8:45 am]

BILLING CODE 4910-13-P